DEPARTMENT OF ENERGY

10 CFR Parts 429 and 431

[Docket No. EERE-2014-BT-TP-0006]

RIN 1904-AD16

Energy Conservation Program: Test Procedure for Commercial Packaged Boilers; Withdrawal

AGENCY: Office of Energy Efficiency and Renewable Energy, Department of Energy.

ACTION: Final rule; withdrawal.

SUMMARY: The U.S. Department of Energy (DOE) is withdrawing its final rule to amend its test procedure for commercial packaged boilers which published in the Federal Register on Thursday, November 10, 2016. The final rule published on November 10, 2016 contained errors. Therefore, DOE is withdrawing the final rule in its entirety and will republish the final rule amending its test procedure for commercial packaged boilers.

DATES: Effective December 7, 2016, the final rule published November 10, 2016 (81 FR 79224), effective December 12, 2016, is withdrawn.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: ApplianceStandardsQuestions@ee.doe.gov.

SUPPLEMENTARY INFORMATION: DOE is withdrawing its final rule to amend its test procedure for commercial packaged boilers which published in the Federal Register on Thursday, November 10, 2016 (81 FR 79224). Among other amendments, the final rule incorporates by reference certain sections of the American National Standards Institute (ANSI)/Air-Conditioning, Heating, and Refrigeration Institute (AHRI) Standard 1500, “2015 Standard for Performance Rating of Commercial Space Heating Boilers,” provides an optional field test for commercial packaged boilers with rated input greater than 5,000,000 Btu/h, and modifies the inlet water temperatures during tests of hot water commercial packaged boilers.

Because the November 10, 2016, rule contained errors, DOE is withdrawing the final rule in its entirety and will republish the final rule amending its test procedure for commercial packaged boilers.

Issued in Washington, DC, on November 29, 2016.
Kathleen B. Hogan,
Deputy Assistant Secretary for Energy Efficiency, Energy Efficiency and Renewable Energy.

[FR Doc. 2016-29078 Filed 12-6-16; 8:45 am]

BILLING CODE 6450-01-P